DEPARTMENT OF COMMERCE

International Trade Administration

A-533-809

Certain Forged Stainless Steel Flanges from India; Preliminary Intent to Rescind Administrative Review and Rescission in Part

AGENCY: Import Administration, International Trade Administration, Department of Commerce.

SUMMARY: The Department of Commerce (the Department) is conducting an administrative review of the antidumping duty order on certain forged stainless steel flanges (stainless steel flanges) from India manufactured by Pradeep Metals Limited (Pradeep), Echjay Forgings Pvt., Ltd. (Echjay) and Hotmetal Forge (India) Pvt, Ltd. (Hotmetal). The period of review (POR) is February 1, 2007, through January 31, 2008. We preliminarily determine that Pradeep had no bona fide U.S. sales during the period of review (POR), and therefore, we intend to rescind the review. We are also rescinding the review with respect to Echjay and Hotmetal because they both withdrew their requests for the review, and no other party requested a review of these companies.

We invite interested parties to comment on this preliminary intent to rescind with respect to Pradeep. Parties who submit argument in these proceedings are requested to submit with the argument: (1) a statement of the issues; and (2) a brief summary of the argument.

EFFECTIVE DATE: August 1, 2008.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On February 9, 1994, the Department published the antidumping duty order on stainless steel flanges from India. See Amended Final Determination and Antidumping Duty Order; Certain Forged Stainless Steel Flanges from India, 59 FR 5994 (February 9, 1994) (Amended Final Determination). On February 15, 2008, we received a request for an administrative review from Echjay for the period February 1, 2007 through January 31, 2008. On February 25, 2008, and February 29, 2008, we received requests from Pradeep and Hotmetal, respectively, for administrative reviews for the same period. On March 31, 2008, we initiated the administrative review. See Initiation of Antidumping and Countervailing Duty Administrative Reviews, Request for Revocation in Part, and Deferral of Administrative Review, 73 FR 16837 (March 31, 2008).

On April 2, 2008, the Department issued its questionnaire to Pradeep. Pradeep submitted its section A response on April 29, 2008, and its section B and C responses on May 8, 2008.

On April 25, 2008, Echjay withdrew its request for administrative review. On June 5, 2008, Hotmetal withdrew its request for administrative review.

Scope of the order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheading is provided for convenience and customs purposes, the written description of the merchandise under review is dispositive of whether or not the merchandise is covered by the scope of the order.

Rescission in Part

As indicated above, on April 25, 2008, and June 5, 2008, Echjay and Hotmetal, respectively, withdrew their requests for administrative review. Pursuant to 19 CFR 351.213(d)(1), the Secretary will rescind an administrative review, in whole or in part, if the party who requested the review withdraws the request within ninety days of the date of publication of notice of initiation of the requested review. Because Echjay and Hotmetal withdrew their requests for review within the 90-day period and no other party requested a review of their sales, in accordance with 19 CFR 351.213(d)(1), we are rescinding this review with respect to these companies.

Intent to Rescind

As indicated above, we have preliminarily determined that Pradeep's single sale to the United States during the POR was not bona fide. We based our determination on the following factors: (1) the timing of the sale; (2) the U.S. price and expenses associated with the sale were high; and (3) the sale involved a method of shipping not standard for the industry. For further information, see the Memorandum to the File, “Bona Fide Nature of the Sale in the Administrative Review of Pradeep Metals Limited,” dated July 28, 2008, for a complete explanation of our analysis. Based on these factors, we preliminarily intend to rescind this administrative review.

Public Comment

Interested parties are invited to comment on this preliminary intent to rescind. Pursuant to 19 CFR 351.309(c)(1)(ii), interested parties may submit case briefs no later than 30 days after the date of publication of this notice. Pursuant to 19 CFR 351.309(d), rebuttal briefs, limited to issues raised in the case briefs and comments, may be filed no later than 5 days after the time limit for filing the case briefs. Parties who submit argument in these proceedings are requested to submit with the argument: (1) a statement of the issue; (2) a brief summary of the argument; and (3) a table of authorities. Further, the Department requests parties submitting written comments to provide the Department with an additional copy of the public version of any such comments on diskette.

Assessment Rates

The Department will issue appropriate assessment instructions for Echjay and Hotmetal directly to the U.S. Customs and Border Protection (CBP) fifteen days after the publication of this notice. The Department will direct CBP to assess antidumping duties at the cash deposit rate in effect on the date of entry for entries of subject merchandise produced and/or exported by Echjay or Hotmetal during the period February 1, 2007 through January 31, 2008.

With respect to Pradeep, if a final rescission notice is published at the completion of this administrative review, a cash deposit rate of 162.14 percent ad valorem shall continue to be collected for any entries produced by Pradeep. Should the Department reach a final result other than a rescission, we will calculate an appropriate antidumping duty rate for both assessment and cash deposit purposes. The Department intends to issue assessment instructions to CBP fifteen days after the date of publication of the final rescission or final results of review.

The Department clarified its “automatic assessment” regulation on May 6, 2003. See Notice of Policy Concerning Assessment of Antidumping Duties, 68 FR 23954 (May 6, 2003) (Assessment Policy Notice). This clarification will apply to entries of subject merchandise during the POR produced by Pradeep for which Pradeep did not know that the merchandise it sold to an intermediary (e.g., a reseller, trading company, or exporter) was destined for the United States. In such instances, we will instruct CBP to liquidate unreviewed entries at the 162.14 percent all-others rate established in the original less than fair value (LTFV) investigation if there is no rate for the intermediary involved in the transaction. See Assessment Policy Notice for a full discussion of this clarification.

Notification to Interested Parties

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Tariff Act and 19 CFR 351.221(b)(4).

Dated: July 28, 2008.
Stephen J. Claeys,
Deputy Assistant Secretary for Import Administration.

[FR Doc. E8-17711 Filed 7-31-08; 8:45 am]

BILLING CODE 3510-DS-S